DEPARTMENT OF JUSTICE

Notice of Lodging of Consent Decree Pursuant to the Clean Air Act

In accordance with the Departmental Policy, 28 CFR 50.7, notice is hereby given that on March 24, 2000, the United States lodged a proposed consent decree with the United States District Court for the Western Disctrict of Wisconsin, in United States v. Redi-Serve Foods Limited Partnership, Case No. 00-C-0166-C (W.D. Wis. 2000), under Section 113(b) of the Clean Air Act, 42 U.S.C. 7413(b). The proposed consent decree resolves certain claims of the United States against Redi-Serve Foods Limited Partnership (“Redi-Serve”), arising out of Redi-Serve's meat processing facility located at 1200 Industrial Drive in Fort Atkinson, Wisconsin.

Under the proposed Consent Decree, Redi-Serve will pay the United States a $195,000 civil penalty. The proposed Consent Decree requires Redi-Serve to retain a certified opacity observer to perform a daily stack inspection and report to the United States Environmental Protection Agency (“U.S. EPA”) any visible emission readings which exceed 20%. The proposed Consent Decree also requires Redi-Serve to report to U.S. EPA any temperature excursions (of minus 25 degrees Fahrenheit from the last stack test), malfunctions or down times for the thermal oxidizer. The proposed Consent Decree will terminate eighteen months after its entry by the United States District Court for the Western District of Wisconsin.

The Department of Justice will accept written comments relating to the proposed Consent Decree for 30 days after publication of this Notice. Comments should be addressed to the Assistant Attorney General, Environment and Natural Resources Division, United States Department of Justice, P.O. Box 7611, Ben Franklin Station, Washington, DC 20044-7611, and should refer to United States v. Redi-Serve Foods Limited Partnership, Case No. 00-C-0166 C (W.D. Wis. 2000), DOJ No. 90-5-2-1-2188. The proposed Consent Decree may be examined at the Office of the United States Attorney for the Western District of Wisconsin, Madison, Wisconsin, and at the Region V Office of the United States Environmental Protection Agency, 77 West Jackson Boulevard, Chicago, Illinois 60604. A copy of the proposed Consent Decree may be obtained by mail from the U.S. Department of Justice, Consent Decree Library, P.O. Box 7611, Washington, DC 20044-7611. In requesting a copy, please enclose a check for reproduction costs (at 25 cents per page) in the amount of $3.50 for the Decree, payable to the Consent Decree Library.

Joel M. Gross,
Chief, Environmental Enforcement Section, Environment and Natural Resources Division.

[FR Doc. 00-9742 Filed 4-18-00; 8:45 am]

BILLING CODE 4410-15-M